FEDERAL EMERGENCY MANAGEMENT AGENCY

44 CFR Part 152

RIN 3067-AD21

Assistance to Firefighters Grant Program

AGENCY: U.S. Fire Administration (USFA), Federal Emergency Management Agency (FEMA).

ACTION: Interim final rule with request for comments.

SUMMARY: We, FEMA, are publishing this interim final rule to provide guidance on a new program to make grants directly to fire departments of a State or tribal nation for the purpose of enhancing their ability to protect the health and safety of the public as well as that of firefighting personnel facing fire and fire-related hazard. The grants will be awarded on a competitive basis based on demonstrated financial need for, and maximum benefit to be derived from, the grant funds.

DATES: This interim final rule is effective March 21, 2001. We invite comments on this interim final rule, which should be received by May 21, 2001.

ADDRESSES: Please send any comments to the Rules Docket Clerk, Office of the General Counsel, Federal Emergency Management Agency, Room 840, 500 “C” Street, SW, Washington, DC 20472. Comments may also be transmitted via fax to (202) 646-4536 or email to rules@fema.gov.

FOR FURTHER INFORMATION CONTACT: Brian Cowan, Director, Office of Strategic Initiatives, Federal Emergency Management Agency, Room 304, 500 “C” Street, SW, Washington, DC 20472, or call 1-866-274-0960, or e-mail USFAGRANTS@fema.gov.

SUPPLEMENTARY INFORMATION: This interim final rule provides guidance on the administration of grants made under the Federal Fire Protection and Control Act, 15 U.S.C., Section 2201 et seq., as amended by the Floyd D. Spence National Defense Authorization Act for Fiscal Year 2001, Pub. L. 106-398. In fiscal year 2001, Congress appropriated $100,000,000 to carry out the activities of the Assistance to Firefighter Grant Program. Congress included in the legislation a list of fourteen categories under which grantees could spend the grant funds. Because of the limited amount of time to establish this new program, we have elected to limit the number of eligible categories to six for this fiscal year. We believe that the six selected categories will provide the grant program with the greatest degree of benefit for the program dollars spent. The six categories selected for funding under this grant program are listed below. The projected allocation for each category is also provided.

(a) Training $6,500,000

(b) Fitness Program $6,500,000

(c) Vehicles $15,000,000

(d) Firefighting Equipment $15,000,000

(e) Personal Protective Equipment $35,000,000

(f) Fire Prevention Programs $12,000,000

Applicants seeking funding from this grant program will be allowed to apply for assistance in only two of the categories listed above. We will evaluate each application for assistance independently based on established eligibility criteria, the financial needs of the applicant, and an analysis of the benefits that would result from the grant award.

For the purposes of this program, State is defined as the fifty States, the District of Columbia, Puerto Rico, the U.S. Virgin Islands, Guam, American Samoa, and the Commonwealth of the Northern Mariana Islands. We will provide the chief executives of the States with information concerning the total number and dollar amount of awards made to fire departments in their States.

In fiscal year 2001, at least $5,000,000 of the funds available under this new program are available for us to make grants to, or enter into contracts or cooperative agreements with, national, State, local or community organizations, including fire departments, for the purpose of carrying out fire prevention programs.

Eligible applicants for the Assistance to Firefighters grant program are limited to fire departments located in the fifty United States, tribal nations, the District of Columbia, Puerto Rico, the U.S. Virgin Islands, Guam, American Samoa, or the Commonwealth of the Northern Mariana Islands. A fire department is defined as an agency that provides public fire prevention and control to local, municipal, district, county, parish, or tribal governments based on a formally recognized arrangement. An emergency medical services unit can apply for assistance provided the unit falls organizationally under the auspices of a fire department. Fire departments, which are Federal or contracted by the Federal government and whose sole responsibility is suppression of fires on Federal installations, are not eligible for this grant program. Tribal fire departments that receive Federal funds to perform fire protective services and/or to purchase or install fire protective equipment are not eligible for this grant program.

The law requires us to reserve a share of the grant funds for volunteer departments. Specifically, we must ensure that fire departments that have either all-volunteer forces of firefighting personnel or combined forces of volunteer and career firefighting personnel receive a portion of the total grant funding that is not less than the proportion of the United States population that those departments protect. According to a 1999 survey by the National Fire Protection Association, volunteer and combination departments protect 57 percent of the population of the United States and career departments protect 43 percent of the population. Therefore, the target distribution of funds is 43 percent for career departments and 57 percent for volunteer/combination departments.

Concurrent with publication of this interim final rule, we are seeking emergency approval of the Paperwork Reduction Act requirements in order to collect supplemental information from each applicant. We will use the supplemental information included in grant application packages in the evaluation of the merits of each request for funding.

For this year's (fiscal year 2001) grant program, we will issue the Request for Application (RFA) packages on or about April 2, 2001. Complete application packages must be received by us on or before the close of business on May 2, 2001.

Eligible applicants can obtain the application form from the FEMA/USFA website (www.usfa.fema.gov). If an eligible applicant does not have access over the Internet to the FEMA/USFA websites, they may contact us directly to request a copy via mail. Those interested in receiving an application in the mail can (1) submit their request to USFA Grant Program Technical Assistance Center, 16825 South Seton Avenue, Emmitsburg, Maryland 21727-8998, or (2) phone 866-274-0960, or (3) fax the request to 866-274-0942, or (4) e-mail USFAGRANTS@fema.gov. Applicants should complete and submit their applications (original application plus two copies of the original) to us at USFA Grant Program Technical Assistance Center, 16825 South Seton Avenue, Emmitsburg, Maryland 21727-8998.

Administrative Procedure Act Determination

We are publishing this interim final rule without opportunity for prior public comment under the Administrative Procedure Act (APA), 5 U.S.C. 553. In accordance with 5 U.S.C. 553(d)(3), we find that there is good cause for the interim final rule to take effect immediately upon publication in the Federal Register in order to comply with Public Law 106-398 which requires us to award the grants no later than September 30, 2001. We invite comments from the public on this interim final rule. Please send comments to FEMA in writing on or before May 21, 2001. After we have reviewed and evaluated the comments we will publish a final rule as required by the APA.

National Environmental Policy Act

This rule is excluded from the preparation of an environmental assessment or environmental impact statement under 44 CFR 10.8(d)(2)(i), (ii), (iii), (v), and (vi).

Executive Order 12898, Environmental Justice

Under Executive Order 12898, “Federal Actions to Address Environmental Justice in Minority Populations and Low-Income Populations,” 59 FR 7629, February 16, 1994, we have undertaken to incorporate environmental justice into our policies and programs. The Executive Order requires each Federal agency to conduct its programs, policies, and activities that substantially affect human health or the environment, in a manner that ensures that those programs, policies, and activities do not have the effect of excluding persons from participation in, denying persons the benefits of, or subjecting persons to discrimination because of their race, color, or national origin. No action that we can anticipate under this interim final rule will have a disproportionately high and adverse human health and environmental effect on any segment of the population. In addition, the interim final rule does not impose substantial direct compliance costs on those communities. Accordingly, the requirements of the Executive Order do not apply to this interim final rule.

Executive Order 12866, Regulatory Planning and Review

Under Executive Order 12866, 58 FR 51735, October 4, 1993, a significant regulatory action is subject to OMB review and the requirements of the Executive Order. The Executive Order defines “significant regulatory action” as one that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

We have determined that this rule is a “significant regulatory action” under the terms of Executive Order 12866. The rule sets out our administrative procedures for making grants available for fire departments to protect the health and safety of the public and the firefighting personnel against fire and fire-related hazards. We expect to award approximately $90,000,000 in grants under this program. With cost sharing, we expect the total value of all grants to be in the $110,000,000 to $115,000,000 range. Therefore, we conclude this rule is a major rule as defined in 5 U.S.C. 804(2).

The Office of Management and Budget has reviewed the interim final rule under Executive Order 12866.

Paperwork Reduction Act

Concurrent with the publication of this interim final rule, we are submitting a request for review and approval of a new collection of information, which is contained in this interim final rule. The request is submitted under the emergency processing procedures in Office of Management and Budget (OMB) regulations 5 CFR 1320.13. We are requesting that this information collection be approved by March 20, 2001, for use through September 2001.

We expect to follow this emergency request with a request to approve the use of the collection instrument for a term of three years. The request will be processed under OMB's normal clearance procedures in accordance with the provisions of OMB regulation 5 CFR 1320.10. To help us with the timely processing of the emergency and normal clearance submissions to OMB, we invite the general public to comment on the proposed collection of information. This notice and request for comments complies with the provisions of the Paperwork Reduction Act of 1995 (44 U.S.C. 3506(c)(2)(A)). It also seeks comments concerning the collection of supplementary information from the applicant fire departments necessary to evaluate grant applications and make awards. The supplementary information augments the screening and referral forms used by the grants administration program in determining whether applicants meet basic eligibility requirements.

Collection of Information.

Title: Assistance to Firefighter Grant Program “ Grant Application Supplemental Information.

Type of Information Collection: New.

Abstract: The supplemental information will correspond to the preliminary evaluation criteria. The information will be submitted by grant applicants who apply for funding in six categories under the Assistance to Firefighters grant program newly authorized by Congress in fiscal year 2001. The grant categories are: training programs, wellness and fitness programs, acquisition of firefighting vehicles, acquisition of firefighting equipment, acquisition of personal protective equipment, and fire prevention programs (see section 152.1 of the interim final rule). Applicants may apply for funding in no more than two of the categories. FEMA will evaluate the grant applications to ensure that funds are distributed to volunteer and career departments consistent with the mandates of Congress. Additionally, we seek to distribute funds to urban, suburban, and rural fire departments. The supplemental information that FEMA is proposing to request is as follows:

(1) General questions asked of all applicants

(a) Is your active firefighting staff: (i) paid/career firefighters; (ii) volunteer firefighters; or (iii) a combination of the two?

(b) How many active firefighters are in your department?

(c) Is your department located in an urban, suburban or rural setting?

(d) What is the approximate population of your first due response area?

(e) Do you receive Federal funding to perform fire protective services and/or to purchase or install fire protective equipment.

(f) Do you currently report to the national fire incident reporting system (NFIRS)?

(2) Questions for vehicle category

(a) What type of vehicle will you use the grant money to purchase?

(b) How many front line vehicles does your department own?

(c) Is the purpose of your purchase to replace an old vehicle, refurbish an old vehicle, or purchase a new or used vehicle to fulfill a new mission?

(d) How many vehicles, of the type or class you are purchasing, does your department own?

(e) What is the age of your newest primary-response vehicle in this class that you currently own?

(f) What is the age of the oldest primary-response vehicle in this class that you currently own?

(g) What is the mileage or number of engine hours on the primary-response vehicle that you are replacing/refurbishing?

(h) What is the average number of annual responses for the primary-response vehicle you are replacing/refurbishing?

(3) Questions for the personal protective equipment category

(a) What percentage of your active firefighting staff has personal protective equipment that meets current NFPA and OSHA standards?

(b) What percentage of your active firefighting staff will have personal protective equipment that meets current NFPA and OSHA standards if this grant is awarded?

(c) Are you seeking this grant to: (i) Equip your firefighting staff for the first time; (ii) replace obsolete or sub-standard equipment; or (iii) equip your staff for a new mission?

(4) Questions for training category

(a) Is the training planned under this grant direct-delivery training or off-site training?

(b) What is the percentage of personnel in the targeted cadre that this program will train?

(c) This training: (i) Will fulfill a statutory requirement; (ii) will achieve voluntary compliance with a national standard; or (iii) does not have a statutory basis or trade standard.

(d) Is this training you are seeking: (i) Basic training for firefighters; (ii) officer training (either supervisory or safety officer); (iii) specialized training; or (iv) other?

(5) Questions for firefighting equipment category

(a) The equipment purchase under this grant program: (i) Is necessary for basic firefighting capabilities, but has never been owned by the department; (ii) will replace old, obsolete, or substandard equipment owned by the department; or (iii) will expand the capabilities of the department into a new mission area.

(b) The equipment purchased under this grant program: (i) Will bring the department into statutory compliance; (ii) will bring the department into voluntary compliance with a national standard; or (iii) has no statutory basis or trade standard.

(c) Will the equipment purchase under this grant program benefit the health and safety of the firefighters and/or the community?

(6) Questions for the fire prevention program category

(a) In what areas do you plan on using these fire prevention grant funds: public education programs; purchase and installation of residential/public detection and suppression systems; development/enforcement of codes; public information materials; presentation aids and equipment; or other?

(b) Does your department currently have a fire prevention program/plan?

(c) Will the grant: (i) Establish a new program; (ii) expand an existing program into new areas; or (iii) augment an existing fire prevention program?

(d) Will this program establish a multi-organizational partnership with other groups in your community?

(e) Who is your target audience: (i) USFA-identified target (children under the age of fourteen, seniors over sixty-five years of age and firefighters), or (ii) other high-risk population?

(f) Is the content of your program accurate and consistent with generally accepted practices and principles?

(g) Will this program be sustained beyond the grant period?

(h) Will your department periodically evaluate the program's impact on the community?

(7) Questions for the wellness and fitness program

(a) Do you have a wellness/fitness program at your department?

(b) Do you currently offer, or will this grant program provide, entry physical examinations and a job-related immunization program?

(c) What does your existing wellness/fitness program currently offer and what will your program offer during the grant year (i.e., entry physical examination, job related immunization program, health screening program, annual physical examination, formal fitness and injury prevention program, crisis management program, employee assistance program, incident rehabilitation program, injury/illness rehabilitation, or other)?

(d) Will participation in the well/fitness program be mandatory?

(e) Do you, or will you, offer incentives to participate in the program?

Project Narrative: The narrative statement identifies the proposed measure to be funded, provides information supporting the project's eligibility, and states its benefits for the purposes of competitive rating. The narrative will contain a description of the proposed projects, a statement that demonstrates the financial need of the fire department and a statement that details the benefits to be derived from the expenditure of grant funding. Applicants that need assistance in formulating the cost-benefit statement or any other justification required by this program may contact us for technical assistance. We will also place information and technical assistance onto the FEMA/USFA websites. Our Technical Assistance Center's toll free number is 866-274-0960, our email address is USFAGRANTS@fema.gov, and our website addresses are www.fema.gov and www.usfa.fema.gov.

Forms or Formats: Forms or formats for the above fire grant program categories may be developed and made available to grant applicants. The forms or formats will capture and format only the questions shown above. No other information requirements will be added to any forms or formats developed by FEMA. FEMA's grant administration forms are approved under OMB number 3067-0206, which expires February 29, 2004. The forms are SF 424, Request for Federal Assistance, facesheet; FEMA Form 20-20, Budget—Non Construction; Project Narrative; Cost Benefit Narrative; FEMA Form 20-16, Summary of Assurances; SF-LLL, Lobbying Disclosure; Automated SF 270; and Performance Report.

Estimated Annual Burden Hours:

Proposed New Collection—Assistance to Firefighter Grant Program—Grant Application Supplemental Information
Grant category data collections | Number of respondents | Hours per response | Range of annual burden hours
• Vehicles | 1,500 to 3,500 | 0.5 | 750 to 1,750
• Personal Protective Equipment | 1,000 to 2,250 | 0.5 | 500 to 1,125
• Training | 750 to 1,750 | 0.5 | 375 to 875
• Firefighting Equipment | 750 to 2,000 | 0.5 | 375 to 1,000
• Fire Prevention Programs | 500 to 1,250 | 0.5 | 250 to 625
• Fitness | 500 to 1,250 | 0.5 | 250 to 625
Total Burden Hours | 5,000 to 12,000 | 0.5 | 2,500 to 6,000

FEMA Grants Administration Forms—OMB Number 3067-0206, Which Expires February 29, 2004
Type of forms or collection | Number of respondents | Hours per response | Range of annual burden hours
SF-424 Application Facesheet | 5,000 to 6,000 | 0.5 | 2,500 to 3,000
20-20 Budget Non-Construction | 5,000 to 12,000 | 1.0 | 5,000 to 12,000
Project Narrative | 5,000 to 12,000 | 0.5 | 2,500 to 6,000
Cost Benefit Narrative | 5,000 to 12,000 | 0.5 | 2,500 to 6,000
20-16 Summary of Assurances | 5,000 to 6,000 | 1.0 | 5,000 to 6,000
SF-LLL Lobbying Disclosure | 5,000 to 6,000 | 0.5 | 2,500 to 3,000
Automated SF-270 | 2,000 to 4,000 | 0.5 | 1,000 to 2,000
Performance Report | 1,500 to 2,000 | 1.5 | 2,250 to 3,000
Total Burden Hours |  |  | 23,250 to 41,000

We anticipate 5,000 to 6,000 fire departments will apply for assistance under this grant program in this first year of the program. Each applicant will be allowed to apply for two different funding categories out of the six categories available for funding this year (i.e., training programs, wellness and fitness programs, firefighting vehicles, firefighting equipment, personal protective equipment, and fire prevention programs). Out of the 5,000 to 6,000 applicants, we anticipate awarding 1,500 to 2,000 grants. Cost to the Respondents: Cost estimates for the application phase ranges from $375,000 to $615,000 ($15 per hour times 25,000 and 41,000 hours, respectively). Cost estimates for reporting on the disposition of the grant funds range from $48,750 to $75,000 ($15 per hour times 3,250 and 5,000 (the number of grant awards), respectively).

As a condition of receiving funding under this program, grant recipients must agree to provide information to the national fire incident reporting system (NFIRS) for the grant period. This reporting constitutes an additional burden on the grantees in this program. We estimate that grantees will spend between one-quarter hour and one-half hour per incident fulfilling this requirement. The annual burden will, therefore, vary from grantee to grantee depending on the number of incidents to which the grantees responded.

Comments:

Written comments are solicited to (a) evaluate whether the proposed data collection is necessary for the proper performance of the agency, including whether the information shall have practical utility; (b) evaluate the accuracy of the agency's estimate of the burden of the proposed collection of information; (c) obtain recommendations to enhance the quality, utility, and clarity of the information to be collected; and (d) evaluate the extent to which automated, electronic, mechanical, or other technological collection techniques may further reduce the respondents' burden. OMB should receive comments within 30 days of the date of this notice. FEMA will continue to accept comments through May 21, 2001.

Addressee: Interested persons should submit written comments to the Desk Officer for the Federal Emergency Management Agency, Office of Management and Budget, Office of Information and Regulatory Affairs, 725 17th Street, NW., Washington, DC 20503 within 30 days of this notice. FEMA will continue to accept comments for an additional 30 days. Those written comments on the collection of information, including the burden estimate, should be sent to the Muriel B. Anderson, Chief, Records Management Branch, Program Services Division, Operations Support Directorate, Federal Emergency Management Agency, 500 C Street, SW., Room 316, Washington, DC 20472.

For Further Information Contact: You may obtain copies of the OMB paperwork clearance package by contacting Ms. Anderson at (202) 646-2625 (voice), (202) 646-3524 (facsimile), or by e-mail at muriel.anderson@fema.gov.

Executive Order 13132, Federalism

This Executive Order sets forth principles and criteria that agencies must adhere to in formulating and implementing policies that have federalism implications, that is, regulations that have substantial direct effects on the States, or on the distribution of power and responsibilities among the various levels of government. Federal agencies must closely examine the statutory authority supporting any action that would limit the policymaking discretion of the States, and to the extent practicable, must consult with State and local officials before implementing any such action.

We have reviewed this interim final rule under the threshold criteria of Executive Order 13132, Federalism. We have determined that the rule does not have federalism implications as defined by the Executive Order. The rule sets out our administrative procedures for making grants available for fire departments to enhance their ability to protect the health and safety of the public and that of their firefighting personnel facing fire and fire-related hazards. The rule does not significantly affect the rights, roles, and responsibilities of States, and involves no preemption of State law nor does it limit State policymaking discretion.

The Office of Management and Budget has reviewed the interim final rule under Executive Order 13132.

Congressional Review of Agency Rulemaking

We have sent this interim final rule to the Congress and to the General Accounting Office under the Congressional Review of Agency Rulemaking Act, 5 U.S.C. 801-808. The rule is a “major rule” within the meaning of that Act. It will result in an annual effect on the economy of $100,000,000 or more. The rule sets out our administrative procedures for making grants available for fire departments to enhance their ability to protect the health and safety of the public and that of their firefighting personnel facing fire and fire-related hazards. We expect to award approximately $90,000,000 in grants under this program. With cost sharing, we expect the total value of all grants to be in the $110,000,000 to $115,000,000 range. However, we do not expect that it will result in a major increase in costs or prices for consumers, individual industries, Federal, State, or local government agencies, or geographic regions. Nor do we expect that it will have “significant adverse effects” on competition, employment, investment, productivity, innovation, or on the ability of United States-based enterprises to compete with foreign-based enterprises.

In compliance with section 808(2) of the Congressional Review of Agency Rulemaking Act, 5 U.S.C. 808(2), for good cause we find that notice and public procedure on this final rule are impracticable, unnecessary, or contrary to the public interest due to the requirements of Public L. 106-398 which requires us to award the grants no later than September 30, 2001. In order to comply with this statutory mandate we need to accept applications for grants no later than May 2001. We invite comments from the public on this interim final rule. Accordingly, this final rule is effective on March 21, 2001.

This final rule is subject to the information collection requirements of the Paperwork Reduction Act. We are seeking emergency approval from the Office of Management and Budget. We will provide the OMB Control number with the application packages. The rule is not an unfunded Federal mandate within the meaning of the Unfunded Mandates Reform Act of 1995, 2 U.S.C. 1501 et seq., and any enforceable duties that we impose are a condition of Federal assistance or a duty arising from participation in a voluntary Federal program.

List of Subjects in 44 CFR Part 152

Assistance to Firefighters Grant Program.

Accordingly, we amend 44 CFR Chapter I by adding Part 152 to read as follows:

PART 152—ASSISTANCE TO FIREFIGHTERS GRANT PROGRAM

Sec.
152.1 Purpose.
152.2 Definitions.
152.3 Availability of funds.
152.4 Roles and responsibilities.
152.5 Evaluation criteria.
152.6 Application review and award process.
152.7 Grant payment, reporting and other requirements.
152.8 Application submission and deadline.

Authority: Federal Fire Protection and Control Act, 15 U.S.C., Section 2201 et seq., as amended by the Floyd D. Spence National Defense Authorization Act for Fiscal Year 2001, Pub. L. 106-398.

§ 152.1 Purpose.

This competitive grant program will provide funding directly to fire departments for the purposes described in the six eligible grant categories below. The funds cannot be used to pay for products and services contracted for, or purchased prior to the effective date of the grant. The six eligible categories for a fire department's expenditures of grant funds under this program follow below:

(a) Training firefighting personnel in fire-fighting, emergency response, supervision and safety, arson prevention and detection, handling of hazardous materials, or training firefighting personnel to provide training in any of these areas. Eligible uses of training funds include but are not limited to purchase of training curricula, training equipment and props, training services, attendance at formal training forums, etc.

(b) Establishing and/or equipping wellness and fitness programs for firefighting personnel, including the procurement of medical services to ensure that the firefighting personnel are physically able to carry out their duties (purchase of medical equipment is not eligible under this category),

(c) Acquiring additional firefighting vehicles, including fire apparatus,

(d) Acquiring additional firefighting equipment, including equipment for individual communications and monitoring (integrated communications systems are not eligible),

(e) Acquiring personal protective equipment required for firefighting personnel by the Occupational Safety and Health Administration, and other personal protective equipment for firefighting personnel, and

(f) Funding fire prevention programs.

§ 152.2 Definitions.

Fire department means an agency that provides public fire prevention and control to local, municipal, district, county, parish, or tribal governments based on a formally recognized arrangement. An emergency medical services unit can apply for assistance provided the unit falls organizationally under the auspices of a fire department. Fire departments, which are Federal or contracted by the Federal government and whose sole responsibility is suppression of fires on Federal installations, are not eligible for this grant program. Tribal fire departments that receive Federal funds to perform fire protective services and/or to purchase or install fire protective equipment are not eligible for this grant program.

Population means permanent residents in the primary/first response area or jurisdiction served by the applicant according to U.S. Census figures available at the time of the application deadline.

State means any of the fifty United States, the District of Columbia, Puerto Rico, the U.S. Virgin Islands, Guam, American Samoa, or the Commonwealth of the Northern Mariana Islands.

§ 152.3 Availability of funds.

(a) No applicant under this program can receive more than $750,000 in Federal grant funds under this program in any fiscal year regardless of the number of categories funded.

(b) As a condition of receiving a grant under this program, fire departments in areas serving populations over 50,000 must agree to match the Federal grant funds with an amount of non-Federal funds equal to 30 percent of the total project cost. Fire departments serving areas with a population of 50,000 or less will have to match the Federal grant funds with an amount of non-Federal funds equal to 10 percent of the total project cost.

§ 152.4 Roles and responsibilities.

(a) Recipient (Grantee) must agree to:

(1) Maintain operating expenditures in the funded grant category at a level equal to or greater than the average of their operating expenditures in the two fiscal years preceding the fiscal year in which assistance is awarded.

(2) Retain grant files and supporting documentation for three years after the conclusion of the grant.

(3) Make their grant files, books and records available for an audit to ensure compliance with any requirement of the grant program.

(4) Provide information to the U.S. Fire Administration's national fire incident reporting system (NFIRS) for the period covered by the assistance.

(b) FEMA Activities:

(1) We will ensure that the funds are awarded based on the priorities and expected benefits articulated in the statute, this rule, and USFA's strategic plan.

(2) We will ensure that not less than five percent (5%) of the funds are made available to national, State, local, or community organizations, including fire departments, for the purpose of carrying out fire prevention programs.

(3) We will ensure that grants are made to fire departments located in urban, suburban, and rural communities.

(4) We will ensure that fire departments with volunteer staff, or staff comprised of a combination of career fire fighters and volunteers, receive a proportion of the total grant funding that is not less than the proportion of the United States population that those firefighting departments protect.

§ 152.5 Evaluation criteria.

(a) We will use the narratives/supplemental information provided by the applicants in their grant applications to evaluate on a competitive basis the merits and benefits of each request for funding. Applicants must articulate the benefits that will be achieved through the grant activities. In addition, the applicant will demonstrate financial need for the assistance requested. We will review and evaluate the applications according to rating criteria that focus on the benefits to be obtained from the use of these grant funds. Our evaluation will also include an assessment of financial need. We seek to maximize the benefits derived from the funding by crediting applicants with the greatest financial need and whose proposed activities provide the greatest benefit.

(b) Applicants will complete two narrative sections in the application package. The first section invites a short description of the planned uses for the grant funds. This narrative should explain why the grant funds are needed and why the department has not been able to fund the planned activities on its own. In the second narrative, the applicant will state the amount requested and detail the benefits the department or community will realize as a result of the grant award. Applicants may seek assistance in formulating their cost-benefit statement or any other justification required by the application by contacting our Grant Program Technical Assistance Center at 866-274-0960 or by email at USFAGRANTS@fema.gov. We will also place useful information on the FEMA/USFA websites.

(c) In addition to the project narrative, the applicant must provide an itemized budget detailing the use of the grant funds. If an applicant is seeking funds in more than one category (eligible applicants may apply for up to two categories), the applicant must provide a narrative and an itemized budget for each category. The budget should be entered onto the form (FEMA Form 20-20) provided in the application package.

(d) Specific rating criteria for each of the eligible categories follow below. These rating criteria, in conjunction with the preliminary evaluation criteria, will provide an understanding of the cost effectiveness of the proposed projects.

(1) Training. We believe that more benefit is derived from the direct delivery of training than from the purchase of training materials and equipment. Therefore, applications focused on direct delivery of training will receive a higher competitive rating. We also believe that funding of basic firefighting training (i.e., training in basic firefighting duties or operating fire apparatus) has greater cost benefit than funding of officer training and specialized training. We will also accord higher rating to programs achieving benefits from statutorily required training over non-mandatory or strictly voluntary training. Finally, we will rate more highly those programs that benefit the highest percentage of targeted personnel within a fire department.

(2) Wellness and fitness programs. We believe that in order to have an effective wellness/fitness program, fire departments must offer both an entry physical examination and an immunization program. Accordingly, applicants in this category must currently offer both benefits, or must propose to initiate both a physical examination and an immunization program with these grant funds in order to receive additional funding for these purposes. We believe the greatest benefit will be realized by supporting new wellness and fitness programs, and therefore, we will accord higher competitive ratings to those applicants lacking wellness/fitness programs over those applicants that already possess a wellness/fitness program. Finally, since participation is critical to achieving any benefits from a wellness or fitness program, we will give higher competitive rating to departments whose wellness and fitness programs mandate participation as well as programs that provide incentives for participation.

(3) Firefighting vehicles. We believe that more benefit will be realized by funding fire departments that own few or no firefighting apparatus than by providing funding to a department with numerous vehicles. Therefore, we will give a higher competitive rating in the apparatus category to fire departments that own few or no firefighting vehicles. We will also give higher competitive rating to departments that have not recently purchased a new firefighting vehicle, and departments that wish to replace an old, high-mileage vehicle or a vehicle that has sustained a high number of responses. We do not believe that there is sufficient cost benefit from expenditures for vehicles with ladder or aerial apparatus and will not accord positive competitive standing to applications proposing such purchases.

(4) Firefighting equipment. We believe that this grant program will achieve the greatest benefits if we provide funds to fire departments purchasing basic firefighting equipment (never owned prior to grant) to bring their departments up to the applicable minimum (i.e., as required by statute, regulation, or professional firefighting guidance), rather than to the department that is replacing equipment or enhancing capabilities. Because of the obvious benefits, we will also give higher competitive rating to departments that are mainly purchasing equipment designed to protect the safety of the firefighters.

(5) Personal protective equipment. One of the stated purposes of this grant program is to protect the health and safety of firefighters. In order to achieve this goal and maximize the benefit to the firefighting community, we believe that we must fund those applicants needing to provide personal protective equipment (PPE) to a high percentage of their personnel. Accordingly, we will give a high competitive rating in this category to fire departments in which a large percentage of their active firefighting staff do not have any personal protective equipment and to departments that wish to purchase enough PPE to equip 100 percent of their active firefighting staff. We will also give a higher competitive rating to departments that are purchasing the equipment for the first time as opposed to departments replacing obsolete or substandard equipment (e.g., equipment that does not meet current NFPA and OSHA standards), or purchasing equipment for a new mission.

(6) Fire prevention programs. We believe that the public as a whole will receive greatest benefit from funds targeted for fire departments that do not have an existing fire prevention program. Also, we believe the public will benefit greatly from continuing fire prevention programs as opposed to limited efforts. Therefore, we will give a higher competitive rating to programs that will be self-sustaining after the grant period. Because of the benefits to be attained, we will give a higher competitive rating to programs that target one or more of USFA's identified high-risk populations (i.e., children under fourteen years of age, seniors over sixty-five and firefighters), and programs whose impact is/will be periodically evaluated. We believe public education programs and community-based, participatory programs that purchase and install residential and public detection and suppression systems achieve greater benefits than do programs that develop and enforce codes and standards. Public information materials and presentation aids and equipment achieve the least benefit, therefore, these types of activities will be accorded the lowest competitive rating.

§ 152.6 Application review and award process.

Using the evaluation criteria delineated above, a panel of subject matter experts will review each application to determine which applicants satisfy the grant program's eligibility parameters, the applicant's relative standing under the rating criteria, and the benefit to cost value of the proposed projects. We will make funding decisions based on the criteria, the demonstrated need of the applicant, and the benefits to be derived from the proposed projects. In order to fulfill our obligation under the law, we will also make funding decisions based on the type of fire department (paid, volunteer, or combination fire departments) and the size and character of the community it serves (urban, suburban, or rural).

§ 152.7 Grant payment, reporting and other requirements.

(a) Grantees have up to twelve months, from the date of the notice of award, to incur obligations to fulfill their responsibilities under this grant program. Grantees may request funds from FEMA as reimbursement for expenditures made under the grant program or for immediate cash needs per FEMA regulations (44 CFR 13.21, more commonly referred to as the Common Rule).

(b) The recipients of funding under this program must report to us on how the grant funding was used. This will be accomplished via submission of a final report. Additionally, fire departments that receive funding under this program must agree to provide information to the national fire incident reporting system (NFIRS) for the period covered by the assistance.

§ 152.8 Application submission and deadline.

Each year that this program is authorized, we will announce the grants availability via Notice of Funds Availability. That Notice will contain all pertinent information concerning the eligible funding categories, funding levels, application period, timelines, and deadlines.

Dated: March 16, 2001.
Joe M. Allbaugh,
Director.

[FR Doc. 01-7014 Filed 3-20-01; 8:45 am]

BILLING CODE 6718-08-P